DEPARTMENT OF HEALTH AND HUMAN SERVICES

National Institutes of Health

Center for Scientific Review; Amended Notice of Meeting

Notice is hereby given of a change in the meeting of the Center for Scientific Review Special Emphasis Panel, March 19, 2008, 3 p.m. to March 19, 2008, 6 p.m., National Institutes of Health, 6701 Rockledge Drive, Bethesda, MD 20892 which was published in the Federal Register on February 7, 2008, 73 FR 7312-7314.

The meeting will be held March 24, 2008, from 2 p.m. to 4:30 p.m. The meeting location remains the same. The meeting is closed to the public.

Dated: February 29, 2008.
Jennifer Spaeth,
Director, Office of Federal Advisory Committee Policy.

[FR Doc. E8-4409 Filed 3-7-08; 8:45 am]

BILLING CODE 4140-01-M